DEPARTMENT OF HOMELAND SECURITY

Federal Emergency Management Agency

[Docket ID: FEMA-2010-0012; OMB No. 1660-0022]

Agency Information Collection Activities: Submission for OMB Review; Comment Request; Community Rating System (CRS) Program-Application Worksheets and Commentary

AGENCY: Federal Emergency Management Agency, DHS.

ACTION: Notice.

SUMMARY: The Federal Emergency Management Agency (FEMA) will submit the information collection abstracted below to the Office of Management and Budget (OMB) for review and clearance in accordance with the requirements of the Paperwork Reduction Act of 1995 under the emergency processing procedures in OMB regulation 5 CFR 1320.13. FEMA is requesting that this information collection be approved by December 14, 2012. The approval will authorize FEMA to use the collection through June 14, 2012. FEMA plans to follow this emergency request with a request for a 3-year approval. The request will be processed under OMB's standard clearance procedures in accordance with the provisions of OMB regulation 5 CFR 1320.10. To help us with the timely processing of the emergency and standard clearance submissions to OMB, FEMA invites the general public to comment on the proposed collection of information.

DATES: Comments must be submitted to OMB on or before December 27, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, Office of Management, Federal Emergency Management Agency, 1800 South Bell Street, Arlington, VA 20598-3005, facsimile number (202) 646-3347, or at email address FEMA-Information-Collections-Management@dhs.gov.

SUPPLEMENTARY INFORMATION: The National Flood Insurance Program (NFIP) promotes and implements sound local floodplain management. Communities must adopt minimum floodplain management standards in order to participate in the NFIP and receive the benefits of flood insurance. The Community Rating System (CRS), codified in the National Flood Insurance Reform Act (NFIRA) of 1994 (Pub. L. 103-325, Sec. 541.) was designed by the Federal Emergency Management Agency (FEMA) to encourage communities to undertake activities that will mitigate flooding and flood damage beyond the minimum standards for NFIP participation. The CRS Program “CRS Coordinator's Manual” is the key primary explanatory document used by CRS communities. It provides detailed explanations of the program and its activities respondents (communities) will select activities to apply for and receive credit and community certifications so that proper credit is applied for each. Communities that receive these credits become eligible for flood insurance premium discounts.

Collection of Information

Title: Community Rating System (CRS) Program-Application Worksheets and Commentary.

Type of Information Collection: Revision of a currently approved information collection.

Form Titles and Numbers: FEMA Form 086-0-35, Community Rating System Application Letter of Interest and Quick Check Instructional; FEMA 086-0-35A, Community Rating System Community Certifications; FEMA form 086-0-35B, Environmental and Historic Preservation Certifications.

Abstract: The CRS Application Worksheet and Commentary are used by communities that participate in the National Flood Insurance Program's (NFIP) Community Rating System (CRS) to document the activities that communities have undertaken to mitigate against future flood losses. The CRS Application Worksheet and Commentary provide a step-by-step process for communities to follow in their effort to achieve the maximum amount of discount on flood insurance premiums. Community participation in CRS allows flood insurance costs to be reduced as a result of implementing floodplain management practices, such as building codes and public education activities. These practices reduce risks of flooding and promote purchase of flood insurance.

Affected Public: State, Local or Tribal Government.

Estimated Number of Respondents: 1,274.

Estimated Total Annual Burden Hours: 16,748.

Estimated Cost: There are no recordkeeping, capital, start-up or maintenance costs associated with this information collection.

Frequency of Response: Annually.

Comments: Written comments are solicited to (a) Evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide us with a copy of your comments. FEMA will continue to accept comments from interested persons through January 28, 2013. Submit comments to the FEMA address listed in the FOR FURTHER INFORMATION CONTACT caption.

Gary Anderson,
Chief Administration Officer, Office of the Chief Administration Office, Mission Support Bureau, Federal Emergency Management Agency, Department of Homeland Security.

[FR Doc. 2012-28665 Filed 11-26-12; 8:45 am]

BILLING CODE 9111-52-P